DEPARTMENT OF HEALTH AND HUMAN SERVICES

Food and Drug Administration

[Docket No. 2003N-0201]

Minimizing Medication Errors—Methods for Evaluating Proprietary Names for Their Confusion Potential; Public Meeting; Correction

AGENCY: Food and Drug Administration; HHS.

ACTION: Notice of public meeting; correction.

SUMMARY: The Food and Drug Administration (FDA) is correcting a notice that appeared in the Federal Register of May 30, 2003 (68 FR 32529). The document announced a public meeting to explore current methods being used to evaluate proprietary drug names to reduce medication errors due to similarity in drug names. The document was published with the incorrect docket number. This document corrects that error.

FOR FURTHER INFORMATION CONTACT: Joyce A. Strong, Chief, Regulations Editorial Section (HF-27), Food and Drug Administration, 5600 Fishers Lane, Rockville, MD 20857, 301-827-7010.

SUPPLEMENTARY INFORMATION: In FR Doc. 03-13591, appearing on page 35679 in the Federal Register of May 30, 2003, the following correction is made:

1. On page 32529, in the third column, the Docket No. “02N-0201” should be corrected to read “2003N-0201”.

Dated: June 25, 2003.
Jeffrey Shuren,
Assistant Commissioner for Policy.

[FR Doc. 03-16617 Filed 7-1-03; 8:45 am]

BILLING CODE 4160-01-S